FEDERAL COMMUNICATIONS COMMISSION

47 CFR Parts 2 and 90

[DA 18-282]

Modification of Rules To Codify New Procedure for Non-Federal Public Safety Entities To License Federal Interoperability Channels

AGENCY: Federal Communications Commission.

ACTION: Final rule.

SUMMARY: This document adopts changes to the Commission's rules to conform them to a streamlining modification recently made by the National Telecommunications and Information Administration (NTIA). NTIA streamlined the coordination process which enables the Commission to grant licenses to non-federal public safety entities who seek to operate on forty federal government interoperability channels over which NTIA has jurisdiction.

DATES: Effective June 6, 2018, except for the addition of § 90.25, which contains a new information collection that requires review by the Office of Management and Budget under the Paperwork Reduction Act of 1995. The FCC will publish a document in the Federal Register announcing the effective date of that rule section.

FOR FURTHER INFORMATION CONTACT: Brian Marenco, Policy and Licensing Division, Public Safety and Homeland Security Bureau, (202) 418-0838.

SUPPLEMENTARY INFORMATION: This is a summary of the Commission's Order, DA 18-282, released on March 22, 2018. The complete text of this document is available for inspection and copying during normal business hours in the FCC Reference Information Center, Portals II, 445 12th Street SW, Room CY-A257, Washington, DC 20554. To request materials in accessible formats for people with disabilities (Braille, large print, electronic files, audio format), send an email to FCC504@fcc.gov or call the Consumer & Governmental Affairs Bureau at (202) 418-0530 (voice), (202) 418-0432 (TTY). The complete text of this document is also available on the Commission's website at http://www.fcc.gov.

1. NTIA designated forty channels for interoperability communications among federal agencies and between federal agencies and non-federal entities with which federal agencies have a requirement to interoperate. A non-federal public safety entity may communicate on the federal interoperability channels for joint federal/non-federal operations, provided it first obtains a license from the Commission authorizing use of the channels.

2. In September 2015, NTIA streamlined the process which enables non-federal agencies to obtain an FCC license to use the federal interoperability channels. Under the new process, the Statewide Interoperability Coordinator (SWIC) or state appointed official in each state is responsible for coordinating access to the federal interoperability channels by non-federal public safety entities. Each SWIC/official will sign an agreement with a federal user with a valid assignment. The agreement may specify which federal interoperability channels are available for use in a particular state or territory and establish the conditions for their use by non-federal public safety entities.

3. Once the federal-state agreement for a given state is signed, non-federal public safety entities in that state may file an application with the Commission to license the designated federal interoperability channels under the new streamlined process. Before filing with the Commission, a non-federal public safety entity seeking to license mobile and portable units on the federal government interoperability channels must first obtain written concurrence from its SWIC/official. The non-federal agency must then include a copy of the written concurrence with its license application to the Commission.

4. NTIA's streamlined process eliminates the need for non-federal public safety entities to obtain written certification from a federal government agency and for the Commission to refer applications for the federal interoperability channels to the Interdepartment Radio Advisory Committee's (IRAC) Frequency Assignment Subcommittee for approval.

5. On March 22, 2018, the Public Safety and Homeland Security Bureau and the Office of Engineering and Technology, on delegated authority, jointly released an Order amending §§ 2.102(c)(4) and 90.173(c) and adopting new § 90.25 in order to conform the Commission's rules to the new streamlined process established by NTIA.

Procedural Matters

A. Paperwork Reduction Act of 1995 Analysis

6. The requirement in new § 90.25 that non-federal public safety agencies obtain written concurrence from the SWIC/official constitutes a new information collection subject to the Paperwork Reduction Act of 1995 (PRA), Public Law 104-13. It will be submitted to the Office of Management and Budget (OMB) for review and public comment under section 3507(d) of the PRA.

7. In addition, pursuant to the Small Business Paperwork Relief Act of 2002, Public Law 107-198 (see 44 U.S.C. 3506(c)(4)), the Commission's Public Safety and Homeland Security Bureau will seek specific comment on how it might further reduce the information collection burden for small business concerns with fewer than 25 employees.

B. Congressional Review Act

8. The Commission will not send a copy of this Order pursuant to the Congressional Review Act, see 5 U.S.C. 801(a)(1)(A), because the adopted rules are rules of agency organization, procedure, or practice that do not “substantially affect the rights or obligations of non-agency parties.

Ordering Clauses

9. Accordingly, it is ordered, pursuant to sections 4(i), 303(c) and 332 of the Communications Act of 1934, as amended, 47 U.S.C. 154(i), 303(c), and 332, this order is hereby adopted.

10. It is further ordered that the rules and requirements adopted herein will become effective June 6, 2018, except for new § 90.25 that contains a new or modified information collection requirement that requires review by the OMB under the PRA. Section 90.25 will become effective after OMB review and approval, on the effective date specified in a notice that the Commission will publish in the Federal Register announcing such approval and effective date.

11. This action is taken under delegated authority pursuant to section 155(c) of the Communications Act of 1934, as amended, 47 U.S.C. 155(c) and §§ 0.31, 0.191, 0.241, and 0.392 of the Commission's rules, 47 CFR 0.31, 0.191, 0.241, and 0.392.

List of Subjects

47 CFR Part 2

Radio, Telecommunications.

47 CFR Part 90

Administrative practice and procedure, Radio.

Federal Communications Commission.
Lisa Fowlkes,
Chief, Public Safety and Homeland Security Bureau.

Final Rules

For the reasons discussed in the preamble, the Federal Communications Commission amends 47 CFR parts 2 and 90 as follows.

PART 2—FREQUENCY ALLOCATIONS AND RADIO TREATY MATTERS; GENERAL RULES AND REGULATIONS

1. The authority citation for part 2 continues to read as follows:

Authority: 47 U.S.C. 154, 302a, 303, and 336, unless otherwise noted.

2. Amend § 2.102 by revising paragraph (c) to read as follows:

§ 2.102 Assignment of frequencies.

* * * * *

(c) Non-Federal stations may be authorized to use Federal frequencies in the bands above 25 MHz:

(1) If the Commission finds, after consultations with the appropriate Federal agency or agencies, that such use is necessary for coordination of Federal and non-Federal activities. Such operations must meet the following requirements:

(i) Non-Federal operation on Federal frequencies shall conform with the conditions agreed upon by the Commission and NTIA;

(ii) Such operations shall be in accordance with NTIA rules governing the service to which the frequencies involved are allocated;

(iii) Such operations shall not cause harmful interference to Federal stations and, should harmful interference result, that the interfering non-Federal operation shall immediately terminate; and

(iv) Non-Federal operation has been certified as necessary by the Federal agency involved and this certification has been furnished, in writing, to the non-Federal licensee with which communication is required; or

(2) Pursuant to the provisions of § 90.25 of this chapter, provided that such operations shall not cause harmful interference to Federal stations and, should harmful interference result, that the interfering non-Federal operation shall immediately terminate.

* * * * *

3. Amend § 2.106 by revising pages 24 and 27 of the Table of Frequency Allocations, and by adding footnote US55 to the list of United States (US) Footnotes to read as follows:

§ 2.106 Table of Frequency Allocations.

* * * * *

BILLING CODE 6712-01-P

* * * * *

BILLING CODE 6712-01-C

* * * * *

United States (US) Footnotes

* * * * *

US55 In the bands 162.0375-173.2 MHz and 406.1-420 MHz, the FCC may authorize public safety applicants to use the 40 Federal Interoperability Channels that are designated for joint federal/non-federal operations for law enforcement, public safety, emergency response and disaster response in section 4.3.16 of the NTIA Manual, subject to the condition that that these non-Federal mobile (including portable) interoperability communications shall conform to the national plans specified therein, and in particular, shall not cause harmful interference to Federal stations. The procedure for authorizing such use is set forth in 47 CFR 90.25.

* * * * *

PART 90—PRIVATE LAND MOBILE RADIO SERVICES

4. The authority citation for part 90 continues to read as follows:

Authority: Sections 4(i), 11, 303(g), 303(r), and 332(c)(7) of the Communications Act of 1934, as amended, 47 U.S.C. 154(i), 161, 303(g), 303(r), and 332(c)(7), and Title VI of the Middle Class Tax Relief and Job Creation Act of 2012, Pub. L. 112-96, 126 Stat. 156.

5. Add § 90.25 to subpart B to read as follows.

§ 90.25 Non-Federal Use of the Federal Interoperability Channels.

The Commission may authorize non-Federal licensees to operate mobile and portable radio units on the frequencies listed below in Tables 1 and 2, provided the applicant includes with its application to the Commission, written concurrence from the Statewide Interoperability Coordinator (SWIC) or state appointed official stating that the application conforms to the agreement with a federal agency with a valid assignment from the National Telecommunications and Information Administration.

Table 1—Law Enforcement Plans (MHz)
LE VHF plan: Identifier | LE VHF plan: Mobile transmit | LE VHF plan: Mobile receive | LE UHF plan: Identifier | LE UHF plan: Mobile transmit | LE UHF plan: Mobile receive
LEA | 167.0875 (S) | 167.0875 | LEB | 414.0375 (S) | 414.0375
LE1 | 162.0875 | 167.0875 | LE10 | 418.9875 | 409.9875
LE2 | 162.2625 | 167.2500 | LE11 | 419.1875 | 410.1875
LE3 | 162.8375 | 167.7500 | LE12 | 419.6125 | 410.6125
LE4 | 163.2875 | 168.1125 | LE13 | 414.0625 (S) | 414.0625
LE5 | 163.4250 | 168.4625 | LE14 | 414.3125 (S) | 414.3125
LE6 | 167.2500 (S) | 167.2500 | LE15 | 414.3375 (S) | 414.3375
LE7 | 167.7500 (S) | 167.7500 | LE16 | 409.9875 (S) | 409.9875
LE8 | 168.1125 (S) | 168.1125 | LE17 | 410.1875 (S) | 410.1875
LE9 | 168.4625 (S) | 168.4625 | LE18 | 410.6125 (S) | 410.6125
(S)—Simplex.

Table 2—Incident Response Plans (MHz)
LE VHF Plan: Identifier | LE VHF Plan: Mobile transmit | LE VHF Plan: Mobile receive | LE UHF Plan: Identifier | LE UHF Plan: Mobile transmit | LE UHF Plan: Mobile receive
NC1 Calling | 164.7125 | 169.5375 | NC2 Calling | 419.2375 | 410.2375
IR1 | 165.2500 | 170.0125 | IR10 | 419.4375 | 410.4375
IR2 | 165.9625 | 170.4125 | IR11 | 419.6375 | 410.6375
IR3 | 166.5750 | 170.6875 | IR12 | 419.8375 | 410.8375
IR4 | 167.3250 | 173.0375 | IR13 | 413.1875 (S) | 413.1875
IR5 | 169.5375 (S) | 169.5375 | IR14 | 413.2125 (S) | 413.2125
IR6 | 170.0125 (S) | 170.0125 | IR15 | 410.2375 (S) | 410.2375
IR7 | 170.4125 (S) | 170.4125 | IR16 | 410.4375 (S) | 410.4375
IR8 | 170.6875 (S) | 170.6875 | IR17 | 410.6375 (S) | 410.6375
IR9 | 173.0375 (S) | 173.0375 | IR18 | 410.8375 (S) | 410.8375
(S)—Simplex.

6. Amend § 90.173 by revising paragraph (c) to read as follows.

§ 90.173 Policies governing the assignment of frequencies.

* * * * *

(c) Frequencies assigned to Federal Government radio stations by the National Telecommunications and Information Administration may be authorized under the provisions set forth in § 2.102(c) of this chapter.

[FR Doc. 2018-08790 Filed 5-4-18; 8:45 am]

BILLING CODE 6712-01-P